CONSUMER PRODUCT SAFETY COMMISSION

Sunshine Act Meetings Notice

Time and Date: Wednesday, January 25, 2017, 10:00 a.m.-12:00 p.m.

Place: Hearing Room 420, Bethesda Towers, 4330 East West Highway, Bethesda, Maryland.

Status: Commission Meeting—Open to the Public.

Matters To Be Considered

1. Decisional Matter: Recreational Off-Highway Vehicles (ROVs)—Termination of Rulemaking (10:00 a.m.-11:00 a.m.)

2. Decisional Matter: Proposed Rule: Amendments to Fireworks Regulations (11:00 a.m.-12:00 p.m.)

A live webcast of the Meeting can be viewed at www.cpsc.gov/live.

Contact Person for More Information: Todd A. Stevenson, Office of the Secretary, U.S. Consumer Product Safety Commission, 4330 East West Highway, Bethesda, MD 20814, (301) 504-7923.

Dated: January 17, 2017.
Todd A. Stevenson,
Secretary.

[FR Doc. 2017-01497 Filed 1-18-17; 11:15 am]

BILLING CODE 6355-01-P